FEDERAL COMMUNICATIONS COMMISSION

47 CFR Part 64

[WC Docket No. 13-39; FCC 13-135]

Rural Call Completion Recordkeeping and Reporting Requirements

AGENCY: Federal Communications Commission.

ACTION: Final rule; announcement of effective date.

SUMMARY: In this document, the Federal Communications Commission (Commission) announces that the Office of Management and Budget (OMB) has approved, for a period of three years, the information collection associated with the Commission's Report and Order (Order) WC Docket No. 13-39, FCC 13-135. This document is consistent with the Order, which stated that the Commission would publish a document in the Federal Register announcing OMB approval and the effective date of the requirements.

DATES: 47 CFR 64.2103, 64.2105, 64.2107, and the information collection in paragraph 67 of this Report and Order, which contains information collection requirements published at 78 FR 76218, December 17, 2013 are effective on March 4, 2015.

FOR FURTHER INFORMATION CONTACT: Randy Clarke, Acting Division Chief, Wireline Competition Bureau, at (202) 418-1587.

SUPPLEMENTARY INFORMATION: This document announces that, on January 29, 2015, OMB approved, for a period of three years, the information collection requirements contained in the Commission's Order, FCC 13-135, published at 78 FR 76218, December 17, 2013. The OMB Control Number is 3060-1186. The Commission publishes this document as an announcement of the effective date of paragraphs 66 and 67, of document WC Docket No. 13-39, FCC 13-135. If you have any comments on the burden estimates listed below, or how the Commission can improve the collections and reduce any burdens caused thereby, please contact Nicole Ongele, Federal Communications Commission, Room 1-620, 445 12th Street SW., Washington, DC 20554, or via email at: Nicole.Ongele@fcc.gov. Please include the OMB Control Number, 3060-1186, in your correspondence. The Commission also will accept comments via email. Please send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on January 29, 2015, for the information collection requirements contained in 64.2103, 64.2105, and 64.2107 of the Commission's Rules and the information collection in paragraph 67 of the Order.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1186.

The foregoing notice is required by the Paperwork Reduction Act of 1995, Public Law 104-13, October 1, 1995, and 44 U.S.C. 3507.

The total annual reporting burdens and costs for the respondents are as follows:

OMB Control Number: 3060-1186.

OMB Approval Date: January 29, 2015.

OMB Expiration Date: January 31, 2018.

Title: Rural Call Completion Recordkeeping and Reporting Requirements.

Form Number: FCC Form 480.

Respondents: Businesses or other for-profit entities.

Number of Respondents and Responses: 225 respondents; 940 responses.

Estimated Time per Response: 12.5 hours (per quarter).

Frequency of Response: Quarterly and one-time reporting requirements and recordkeeping requirement.

Obligation to Respond: Required to obtain or retain benefits. Statutory authority for this information collection is contained in 47 U.S.C. 151, 154(i), 201(b), 202(a), 218, 220(a), 251(a), 403.

Total Annual Burden: 11,280 hours.

Total Annual Cost: $793,750.

Privacy Impact Assessment: No impact (s).

Nature and Extent of Confidentiality: An assurance of confidentiality is not offered because this information collection does not require the collection of personally identifiable information from individuals. If the FCC requests that respondents submit information which respondents believe is confidential, respondents may request confidential treatment of such information pursuant to Section 0.459 of the FCC's rules, 47 CFR 0.459.

Needs and Uses: On October 28, 2013, the Wireline Competition Bureau (Bureau) of the Federal Communications Commission adopted a Report and Order (Order), in WC Docket No. 13-39; FCC 13-135, 78 FR 76218, Rural Call Completion. Under the rules adopted by the Order, submission of Form 480 is mandatory for a “covered provider” as defined in 47 CFR 64.2101(c). A covered provider failing to file Form 480 in a timely fashion may be subject to penalties under the Communications Act, including sections 502 and 503(b). In the Order the Commission improves its ability to monitor problems with completing calls to rural areas, and enforce restrictions against blocking, choking, reducing, or restricting calls. The Order applies the new rules to “covered providers,” meaning providers of long-distance voice service that make the initial long-distance call path choice for more than 100,000 domestic retail subscriber lines, counting the total of all business and residential fixed subscriber lines and mobile phones and aggregated over all of the providers' affiliates. In most cases, this is the calling party's long-distance provider. Covered providers include LECs, interexchange carriers (IXCs), commercial mobile radio service (CMRS) providers, and VoIP service providers. These rules do not apply to intermediate providers. Covered providers must file quarterly reports and retain the call detail records for at least six calendar months. Long-distance voice service providers that have more than 100,000 domestic retail subscriber lines but that, for reasons set forth in paragraph 67 of the Order, are not required to file quarterly reports are required to file a one-time letter in WC Docket No. 13-39 explaining that they do not make the initial long-distance call path choice for more than 100,000 long-distance voice service subscriber lines and identifying the long-distance provider or providers to which they hand off their end-user customers' calls. The Order also allows qualifying providers to certify that they meet the conditions for a Safe Harbor that would reduce reporting and retention obligations. In addition, the Commission has delegated to the Bureau, in consultation with the Enforcement Bureau, the authority to act on requests from qualified providers for waiver of these rules. The Order also adopts a rule prohibiting all originating and intermediate providers from causing audible ringing to be sent to the caller before the terminating provider has signaled that the called party is being alerted.

In the near future, the Bureau will issue a public notice providing detailed instructions and announcing the deadline for the submission of data and providing further filing information.

Federal Communications Commission.
Marlene H. Dortch,
Secretary.

[FR Doc. 2015-04415 Filed 3-3-15; 8:45 am]

BILLING CODE 6712-01-P